DEPARTMENT OF ENERGY

[FE Docket No. PP-252]

Notice of intent to prepare an Environmental Impact Statement and to conduct public scoping meetings and Notice of Floodplain and Wetlands Involvement; GenPower New York, L.L.C.

AGENCY: Department of Energy (DOE).

ACTION: Notice of intent to prepare an Environmental Impact Statement (EIS) and to conduct public scoping meetings.

SUMMARY: GenPower New York, L.L.C. (GenPower) has applied to DOE for a Presidential permit to construct a ±500,000-volt (±500-kV) direct current (DC) submarine electric transmission cable across the U.S. border with Canada. The cable is proposed to originate in Goldboro, Nova Scotia, Canada, and terminate in New York City, New York. DOE has determined that the issuance of the Presidential permit would constitute a major Federal action that may have a significant impact upon the environment within the meaning of the National Environmental Policy Act of 1969 (NEPA). For this reason, DOE intends to prepare an EIS to address reasonably foreseeable impacts from the proposed action and alternatives.

The purpose of this Notice of Intent is to inform the public about the proposed action, announce plans for three public scoping meetings, invite public participation in the scoping process, and solicit public comments for consideration in establishing the scope and content of the EIS. Because the proposed project may involve an action in a floodplain or wetland, the EIS will include a floodplain and wetlands assessment and floodplain statement of findings in accordance with DOE regulations for compliance with floodplain and wetlands environmental review requirements (10 CFR part 1022).

DATES: DOE invites interested agencies, organizations, and members of the public to submit comments or suggestions to assist in identifying significant environmental issues and in determining the appropriate scope of the EIS. The public scoping period starts with the publication of this Notice in the Federal Register and will continue until March 25, 2002. Written and oral comments will be given equal weight, and DOE will consider all comments received or postmarked by March 25, 2002, in defining the scope of this EIS. Comments received or postmarked after that date will be considered to the extent practicable.

Dates for the public scoping meetings are:

1. February 26, 6 to 9 p.m., Gloucester, Massachusetts

2. February 27, 1 to 4 p.m., Boston, Massachusetts

3. February 28, 1 to 4 p.m., New York City, New York

Requests to speak at a public scoping meeting(s) should be received by Mrs. Ellen Russell at the address indicated below on or before February 25, 2002. Requests to speak may also be made at the time of registration for the scoping meeting(s). However, persons who submitted advance requests to speak will be given priority if time should be limited during the meeting.

ADDRESSES: Written comments or suggestions on the scope of the EIS and requests to speak at the scoping meeting(s) should be addressed to: Mrs. Ellen Russell, Office of Fossil Energy (FE-27), U.S. Department of Energy, 1000 Independence Avenue, SW, Washington, DC 20585-0350; phone 202-586-9624, facsimile: 202-287-5736, or electronic mail at Ellen.Russell@hq.doe.gov. In addition, a toll free comment line, 1-800-437-7280, and a project information Web site, http://projects1.battelle.org/genpowereis, are available.

The locations of the scoping meetings are:

1. Milton Fuller School, 4 School House Road, Gloucester, Massachusetts.

2. Environmental Protection Agency Building, Training Room 1101, 1 Congress Street, Boston, Massachusetts.

3. Federal Triangle Building, Conference Room A, 26 Federal Plaza, New York City, NY.

FOR FURTHER INFORMATION CONTACT: For information on the proposed project or to receive a copy of the Draft EIS when it is issued, contact Mrs. Russell at the address listed in the ADDRESSES section of this notice. The GenPower application, including associated maps and drawings, can be downloaded in its entirety from the Fossil Energy web site (www.FE.DOE.GOV; choose “Electricity Regulation,” then “Pending Procedures”).

For general information on the DOE NEPA review process, contact: Carol M. Borgstrom, Director, Office of NEPA Policy and Compliance (EH-42), U.S. Department of Energy, 1000 Independence Avenue, SW., Washington, DC 20585-0119; Phone: 202-586-4600 or leave a message at 800-472-2756; Facsimile: 202-586-7031.

SUPPLEMENTARY INFORMATION:

Background and Need for Agency Action

Executive Order 10485, as amended by Executive Order 12038, requires that a Presidential permit be issued by DOE before electric transmission facilities may be constructed, maintained, operated, or connected at the U.S. international border. The Executive Order provides that a Presidential permit may be issued after a finding that the proposed project is consistent with the public interest. In determining consistency with the public interest, DOE considers the impacts of the project on the reliability of the U.S. electric power system and on the environment. The regulations implementing the Executive Order have been codified at 10 CFR 205.320—205.329. Issuance of the permit indicates that there is no Federal objection to the project, but does not mandate that the project be completed.

On September 19, 2001, GenPower filed an application with the Office of Fossil Energy (FE) of the DOE for a Presidential permit. For its “Hudson Energy Project,” GenPower proposes to install a high-voltage, direct current (HVDC) submarine cable extending from a proposed 820-megawatt combined-cycle, natural gas-fired power plant located in Goldboro, Guysborough County, Nova Scotia, Canada, to New York City, New York, a distance of approximately 800 to 900 miles (1,300 to 1,450 kilometers (km)). GenPower's proposed terminus in New York City is the Consolidated Edison Company's (ConEd) West 49th Street substation. GenPower proposes, based on technical and geological limitations, to bury the cable on the sea bed to a depth of approximately 3.3 feet (1 meter (m)) in Canadian, United States, and possibly international waters at ocean depths to 990 feet (300 m). The cable is proposed to be installed using remotely operated water-jet trenching and/or water-jet plow equipment. Two areas designated as Critical Habitat for the Right Whale may be transited by installer ships. GenPower proposes to finalize installation procedures after consultations with the National Marine Fisheries Service under the Marine Mammal Protection Act.

The GenPower application, including associated maps and drawings, can be downloaded in its entirety from the Fossil Energy Web site (www.FE.DOE.GOV; choose “Electricity Regulation,” then “Pending Procedures”).

GenPower does not have firm contracts in place in the United States for the sale of power from the proposed generating facilities.

GenPower's application proposes two sea-bed alternatives in the vicinity of “Georges Bank,” one to the east, the other to the west (applicants preferred alternative), beginning at the proposed Goldboro, Nova Scotia, power plant and terminating at ConEd's West 49th Street Substation. Georges Bank is one in a series of immense underwater banks or plateaus stretching from Newfoundland to southern New England on the edge of the North American continental shelf. The northernmost banks are called the Grand Banks and are off the Newfoundland and Labrador coasts. Georges Bank is an oval-shaped geological formation, approximately 150 miles (240 km) long by 75 miles (120 km) wide, and approximately 330 feet (100 m) higher than the sea bed of the Gulf of Maine that lies just north of it. Georges Bank is located at the southwestern end of the chain of banks and it is 75 miles (120 km) off the coast of New England. An important fishing resource, the banks are prime North American breeding and feeding grounds for fish and shellfish.

The alternative cable routes proposed by GenPower are as follows: For both alternatives, submarine cable installation would begin at Goldboro, Nova Scotia, and head offshore, then southwesterly along the Nova Scotia coast, to the Northeast Channel area. From there, the cable route would follow either a southeastern route around Georges Bank (southeast of Nantucket Island), or, for the applicant's preferred alternative, a southwestern route around Georges Bank to the Great South Channel and western terminus of the Ambrose shipping channel into New York Harbor.

When the cable route would enter the territorial waters of New York State it would be outside Lower New York Bay approximately three miles (5 km) south of Rockaway Beach, Queens. The route would continue west, entering Lower New York Bay, then turn northwest, passing through the Narrows into Upper New York Bay. The route would then proceed north, on the east side of the New York/New Jersey state line, to the west of Governors Island. The route would then proceed north, paralleling the west shoreline of Manhattan until the vicinity of the Passenger Ship Terminal piers near West 50th Street, where the cable route would proceed east and enter a directionally drilled conduit to connect with a proposed DC to AC power converter facility, proposed to be located at West 50th and 12th Avenue. The converted power would then leave the converter facility via a buried AC interconnection that would pass from the converter facility to ConEd's West 49th Street substation (located at West 49th Street between 12th and 11th Avenues), for interconnection with ConEd's existing electrical transmission system.

Federal and Provincial Governments in Canada will also have a permitting role in the construction and operation of GenPower's Hudson Energy Project. DOE believes that this project is likely to require a demonstration that facilities in Canada would be undertaken in an environmentally safe manner. Further, DOE believes that an environmental review, similar to the one being announced by DOE herein, will be required by the Canada Environmental Assessment Act. DOE will consider information developed in that proceeding in the GenPower EIS.

Identification of Environmental Issues

A purpose of this notice is to solicit comments and suggestions for consideration in the preparation of the EIS. As background for public comment, this notice contains a list of potential environmental issues that DOE has tentatively identified for analysis. This list is not intended to be all-inclusive or to imply any predetermination of impacts. Following is a preliminary list of issues that may be analyzed in the EIS:

1. Impacts on fisheries, infrastructure, and employment;

2. Impacts on protected, threatened, endangered, or sensitive species of animals or plants, or their critical habitats;

3. Impacts on floodplains and wetlands;

4. Impacts on cultural or historic resources;

5. Impacts on human health and safety;

6. Impacts on air, soil, and water;

7. Visual impacts; and

8. Disproportionately high and adverse impacts on minority and low-income populations.

The EIS will also consider alternatives to the proposed transmission lines, including, to the extent practicable, the No Action Alternative. However, not issuing the Presidential permit would not necessarily imply maintenance of the status quo. GenPower indicated its proposed action is required to meet current and projected demand for electricity in New York City. Other actions (e.g., construction of a new generating station in the vicinity of New York or New England and new transmission lines into New York City) could occur if the proposed transmission line is not built. The No Action Alternative will address the environmental impacts that are reasonably foreseeable to occur if the Presidential permit is not issued.

Scoping Process

Interested parties are invited to participate in the scoping process both to refine the preliminary alternatives and environmental issues to be analyzed in depth, and to eliminate from detailed study those alternatives and environmental issues that are not feasible or pertinent. The scoping process is intended to involve all interested agencies (Federal, state, county, and local), public interest groups, Native American tribes, businesses, and members of the public. Potential Federal cooperating agencies include the U.S. Army Corps of Engineers, National Oceanic and Atmospheric Administration, and the National Marine Fisheries Service. Both oral and written comments will be considered and given equal weight by DOE.

Public scoping meetings will be held at the locations, dates, and times indicated above under the DATES and ADDRESSES sections. These scoping meetings will be informal. The DOE presiding officer will establish only those procedures needed to ensure that everyone who wishes to speak has a chance to do so and that DOE understands all issues and comments. Speakers will be allocated approximately 10 minutes for their oral statements. Depending upon the number of persons wishing to speak, DOE may allow longer times for representatives of organizations. Consequently, persons wishing to speak on behalf of an organization should identify that organization in their request to speak. Persons who have not submitted a request to speak in advance may register to speak at the scoping meeting(s), but advance requests are encouraged. Should any speaker desire to provide for the record further information that cannot be presented within the designated time, such additional information may be submitted in writing by the date listed in the DATES section. Meetings will begin at the times specified and will continue until all those present who wish to participate have had an opportunity to do so.

Draft EIS Schedule and Availability

The Draft EIS is scheduled to be issued in the fall, 2002, at which time its availability will be announced in the Federal Register and local media and public comments again will be solicited.

People who do not wish to submit comments or suggestions at this time but who would like to receive a copy of the Draft EIS for review and comment when it is issued should notify Mrs. Russell at the address above.

The Draft EIS will be made available for public inspection. A notice of these locations will be provided in the Federal Register and local media at a later date.

Issued in Washington, DC on January 31, 2002.
Steven V. Cary,
Acting Assistant Secretary, Office of Environment, Safety, and Health.

[FR Doc. 02-2826 Filed 2-5-02; 8:45 am]

BILLING CODE 6450-01-P